DEPARTMENT OF HEALTH AND HUMAN SERVICES

Centers for Disease Control and Prevention

HIV Prevention Projects for the Pacific Islands

Announcement Type: New.

Funding Opportunity Number: 04069.

Catalog of Federal Domestic Assistance Number: 93.943.

Key Dates:

Application Deadline: February 2, 2004.

I. Funding Opportunity Description

Authority: This program is authorized under sections 301(a) and 317(k)(2) of the Public Health Service Act, 42 U.S.C., 241 and 247b(k)(2).

Purpose: The purpose of the program is to support HIV prevention projects in the U.S. Affiliated Pacific Island Jurisdictions. HIV prevention programs in these jurisdictions face unique challenges and circumstances. These jurisdictions often lack sufficient resources, program infrastructure, and technical support to fully implement a comprehensive HIV prevention program and to ensure that critical prevention program components are implemented and sustained. These island nations deal with many challenging dynamics that include reaching and supporting prevention activities in locations separated by vast expanses of ocean, highly mobile populations, a lack of primary health care providers and facilities, variable economic and social conditions, and the challenge of adequately managing the migration and movement of regional and international visitors and workers. This program addresses the Healthy People 2010 focus area of HIV infection.

The majority of HIV transmission is by persons unaware of their infection; one quarter of the people in the United States who are infected with HIV do not yet know they are infected. Knowledge of their HIV status would allow these people to receive the benefits of improved treatment and care, as well as ongoing prevention services that can help them avoid infecting others.

CDC is refocusing some HIV prevention activities to reduce the number of new HIV infections in the United States (“Advancing HIV Prevention: New Strategies for a Changing Epidemic—United States,” MMWR 2003; 52(15): 329-332). This new initiative will put more emphasis on counseling, testing, and referral for the estimated 180,000 to 280,000 persons who are unaware of their HIV infection; partner notification, including partner counseling and referral services; and prevention services for persons living with HIV to prevent further transmission once they are diagnosed with HIV. In addition, since perinatal HIV transmission can be prevented, CDC is strengthening efforts to promote routine, universal HIV screening as a part of prenatal care. All of this will be accomplished through four strategies: (1) Making HIV screening a routine part of medical care; (2) creating new models for diagnosing HIV infection, including the use of rapid testing; (3) improving and expanding prevention services for people living with HIV; and (4) further decreasing perinatal HIV transmission.

Measurable outcomes of the program will be in alignment with the following performance goals for the National Center for HIV, STD and TB Prevention (NCHSTP):

1. Decrease the number of persons at high risk for acquiring or transmitting HIV infection by delivering targeted, sustained, and evidence-based HIV prevention interventions, including prevention of perinatal HIV transmission.

2. Increase, through voluntary counseling and testing, the proportion of HIV-infected people who know they are infected, focusing particularly on populations with high rates of undiagnosed HIV infection by: Incorporating HIV rapid and other test technology where applicable; reconfiguring counseling and testing resources to increase the efficiency of such services; increasing the number of providers who routinely provide HIV screening in health care settings; and increasing the number of partners who receive partner counseling, testing, and referral services.

3. Increase the proportion of HIV-infected people who are linked to appropriate prevention, care, and treatment services.

4. Strengthen the capacity of health department/ministry of health and community-based efforts to implement effective HIV prevention programs and to evaluate them.

To ensure quality programs and measure progress, applicants are required to report on a set of core program performance indicators appropriate for their program activities. (In this and other documents, these may also be referred to as core indicators, program indicators, performance indicators, or simply indicators). Each jurisdiction will set annual target levels of performance for each indicator.

Funded jurisdictions are accountable for achieving their target levels of performance. If a jurisdiction fails to achieve its target, CDC will work with the grantee to determine how to improve performance. CDC actions could include technical assistance, placing conditions or restrictions on the award of funds or, with chronic failure to improve, a reduction in funds.

Activities:

Awardee activities for this program are as follows: Recipients will implement a comprehensive HIV prevention program that includes the following components:

a. HIV prevention program planning and implementation using a formal process that involves meaningful community input and involvement

b. HIV prevention activities:

(1) HIV prevention counseling, testing, and referral services (CTR)

(2) Partner notification, including partner counseling and referral services (hereafter known as PCRS) with strong linkages to prevention and care services

(3) Prevention for HIV-infected persons

(4) Health education and risk reduction (HE/RR) activities

Information on HIV prevention methods (or strategies) can include abstinence, monogamy, i.e., being faithful to a single sexual partner, or using condoms consistently and correctly. These approaches can avoid risk (abstinence) or effectively reduce risk for HIV (monogamy, consistent and correct condom use).

(5) Public information programs

(6) Perinatal transmission prevention

c. Evaluation of major program activities, interventions, and services, including data collection on interventions and clients served

d. Collaboration and coordination with other related programs

e. Laboratory support

f. Core HIV/AIDS epidemiologic and behavioral surveillance

g. Quality assurance

h. Capacity-building activities are a recommended component of a comprehensive HIV prevention program and should be implemented depending upon program needs and availability of resources.

In a cooperative agreement, CDC staff is substantially involved in the program activities, above and beyond routine grant monitoring.

CDC Activities for this program are as follows:

a. Provide consultation, technical assistance (TA), and support of capacity-building assistance in all aspects of grantee's comprehensive HIV prevention program, including (during the first year of this five-year project period) extensive support and assistance to design, develop, and implement a new model for HIV prevention planning and implementation that will incorporate community input and involvement

b. Work with grantees to assess training needs and provide training to managers, supervisors, and staff of CTR, outreach, or other prevention programs, either directly or through its network of TA providers and STD/HIV prevention training centers

c. Disseminate current information, including best practices, in all areas of HIV prevention; facilitate the adoption and adaptation of effective intervention models through workshops, conferences, and written materials; and provide TA in the development and evaluation of new or innovative prevention models

d. Develop intervention and program evaluation guidelines and program monitoring systems (including core program indicators)

e. Facilitate coordination of activities among other CDC-funded programs, health departments/ministries of health, community-based organizations (CBOs), national/international capacity-building assistance (CBA) providers, international governmental and non-governmental agencies and organizations, and care providers and recipients of Ryan White CARE Act funds

f. Monitor progress toward achieving target levels of performance for each core program indicator, provide feedback, and take appropriate steps when target levels of performance are not met

II. Award Information

Type of Award: Cooperative Agreement. CDC involvement in this program is listed in the Activities Section above.

Fiscal Year funds: 2004.

Approximate Total Funding: $1,624,005.

Approximate Number of Awards: 6.

Approximate Average Award: $270,667.

Floor of Award Range: $130,330.

Ceiling of Award Range: $541,759.

Anticipated Award Date: April 1, 2004.

Budget Period Length: 12 months.

Project Period Length: Five years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by the six health departments/ministries of health of the United States Affiliated Pacific Island Jurisdictions: American Samoa, Commonwealth of the Northern Mariana Islands, Federated States of Micronesia, Guam, Republic of the Marshall Islands, and Republic of Palau.

III.2. Cost Sharing or Matching

Matching funds are not required for this program.

III.3. Other

CDC will accept and review applications with budgets greater than the ceiling of the award range.

Note: Title 2 of the United States Code section 1611 states that an organization described in section 501(c)(4) of the Internal Revenue Code that engages in lobbying activities is not eligible to receive Federal funds constituting an award, grant, or loan.

IV. Application and Submission Information

IV.1. Address to Request Application Package

To apply for this funding opportunity use application form CDC 1246. Forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Application Submission

You must submit a signed hard copy original and two copies of your application.

You are required to have a Dun and Bradstreet Data Universal Numbering System (DUNS) number to apply for a grant or cooperative agreement from the Federal government. The DUNS number is a nine-digit identification number, which uniquely identifies business entities. Obtaining a DUNS number is easy and there is no charge. To obtain a DUNS number, access: http://www.dnb.com/AU/index.asp?event=countrymenu&country=au

Or: http://www.dunandbradsteet.com.

You may call the Dun and Bradstreet Australia office at: 61 3 9828 3448.

For more information, see the CDC Web site at: http://www.cdc.gov/od/pgo/funding/pubcommt.htm.

If your application form does not have a DUNS number field, please write your DUNS number at the top of the first page of your application, and/or include your DUNS number in your application cover letter.

You must include a project narrative with your application forms. Your narrative must be submitted in the following format:

• Maximum number of pages: 50 pages. If your narrative exceeds the page limit, only the first pages, which are within the page limit, will be reviewed.

• Font size: 12 point unreduced;

• Paper size: 8.5 by 11 inches;

• Page margin size: one inch;

• Printed only on one side of page;

• Held together only by rubber bands or metal clips; not bound in any other way.

• The Program Announcement title and number must appear in the application.

• Sequentially number all pages in the application and attachments, and include a Table of Contents reflecting major categories and corresponding page numbers.

• Provide only those attachments directly relevant to this application.

Your narrative should address activities to be conducted over the entire project period.

The following information describes program requirements and asks you to describe, in your application, how you will address the requirements. This section also includes core program performance indicators that are required for specific program activities. These indicators will be used to help measure program performance. In your application, you are required to report on the base-line level for each indicator, as well as a one-year interim target and a five-year overall target level of achievement (a technical guide, CDC Technical Assistance Guidelines for Health Department HIV Prevention Program Performance Indicators, is available to assist you in understanding and responding to the core program performance indicators). In subsequent progress reports, you will be required to report on progress in achieving target levels of performance for each core program performance indicator.

If your HIV prevention program cannot currently carry out aspects of a required HIV program activity and, as a result, limits your ability to formulate core program performance indicator baselines and targets, please provide a detailed description of the current status of your jurisdiction's ability to implement that particular program activity. In addition, please also describe your jurisdiction's needs in terms of program capacity development or technical assistance to implement this required HIV program activity.

a. HIV Prevention Program Planning and Implementation Using Community Input and Involvement

(1) As part of activities covered under this announcement, grantees will work with CDC to create and implement a suitable model that has been specifically developed considering the existing HIV prevention capacity and resources in the Pacific. Most of the activities related to the development of this new model must occur during the first year of the five-year project period.

(2) Attend and participate in CDC sponsored and supported consultations and activities provided to develop and construct a new model for community involvement in HIV prevention program planning and implementation. These events will take place in the Pacific and in other locations, as well as through facilitated teleconferences and meetings. Ensure that adequate funds are provided to support the development of this new HIV prevention program planning and implementation model and that your program is sufficiently represented during all phases of the development process

(3) Once a model for community input and involvement has been developed and formalized, all funded grantees must ensure that this process is implemented and supported. Reporting and evaluation requirements regarding the implementation of this required component would be defined and clarified during the five-year project period.

In your application:

Describe your jurisdiction's current process for ensuring that community involvement and input is part of HIV prevention program planning and implementation. Describe barriers, challenges and limitations in the current process or model. Describe ideas or suggestions for a new model that might achieve or increase community involvement in HIV prevention program planning and implementation.

b. HIV Prevention Activities

There are two overall HIV prevention core program performance indicators. Specify a base-line level for the following two core program performance indicators:

• Indicator A.1: Number of newly diagnosed HIV infections;

• Indicator A.2: Proportion of HIV/AIDS cases 13-24 years of age diagnosed each year among all HIV/AIDS cases.

(1) HIV Counseling, Testing, and Referral (CTR) Services

All jurisdictions must provide counseling, testing, and referral services with a focus on diagnosing as many new cases of HIV as possible and implementing HIV CTR strategies that increase opportunities for HIV testing in populations at high risk for HIV infection.

(a) Provide HIV CTR services. These services must be consistent with CDC's most current HIV CTR guidelines (“CDC Revised Guidelines for HIV Counseling, Testing, and Referral,” MMWR 2001, 50 [RR-19]; 1-58) and should be implemented in order to diagnose as many new HIV infections as possible.

(b) Provide opportunities for persons to receive anonymous HIV CTR services, unless prohibited by law or regulation.

(c) Ensure that appropriate HIV CTR services are provided in settings most likely to reach persons who are likely to be infected, but who are unaware of their status. Settings should include community outreach and other non-traditional sites. These services should include use of rapid and other test technologies (i.e., oral fluid-based test technology), where applicable.

(d) Provide opportunities for high-risk individuals who test HIV-negative to receive appropriate and effective HIV prevention interventions and risk reduction counseling. Information on HIV prevention methods (or strategies) can include abstinence, monogamy, i.e., being faithful to a single sexual partner, or using condoms consistently and correctly. These approaches can avoid risk (abstinence) or effectively reduce risk for HIV (monogamy, consistent and correct condom use).

(e) Ensure that clients receive test results, particularly those who test positive.

(f) Provide support (e.g., financial, technical assistance, training, and coordination) to health care providers to increase the identification of HIV-positive persons through strengthening current CTR services or creating new services. Work with departments of corrections to encourage and, when appropriate, support routine voluntary HIV screening and referral in correctional facilities. Strengthen outreach into communities to increase the number of HIV infections diagnosed by increasing the number of high-risk persons participating in HIV counseling, testing, and referral services.

(g) Collect and report HIV CTR data as will be specified in the new Program Evaluation and Monitoring System (PEMS), including core program performance indicators. Report HIV CTR activities on a quarterly basis as specified in the Technical Reporting Section of this Announcement.

(h) Seek opportunities to integrate and enhance HIV CTR and STD services.

(i) Collect and report data that will provide useful and accurate information on the status and function of the HIV counseling, testing, and referral system. Ensure that there is sufficient capacity to collect and store electronic data and that data are secure.

In your application:

(a) Describe your plan to provide HIV CTR services, including:

• How you will establish or improve efforts to identify newly infected persons and to test persons most at risk for HIV.

• How you will improve the provision of test results (especially positive results).

• How you will expand the availability of HIV CTR services, especially in areas where testing is not currently available and where high-risk populations would seek testing.

• Your plan for providing referrals and tracking the completion of referrals for persons with positive test results.

• How you will provide HIV prevention interventions and risk reduction counseling for high-risk persons who have negative HIV test results.

• How you will work with medical care entities to encourage and support routine HIV screening in high prevalence settings.

(b) Specify a base-line level, one-year interim target, and five-year overall target level of performance for each of the following core program performance indicators:

• Indicator B.1: Percent of newly identified, confirmed HIV-positive test results among all tests reported by CDC-funded HIV counseling, testing, and referral sites.

• Indicator B.2: Percent of newly identified, confirmed HIV-positive test results returned to clients.

(2) Partner Counseling and Referral Services (PCRS)

All recipients must:

(a) Ensure that PCRS is a high priority within the jurisdiction's HIV prevention activities. These services must be consistent with the most current PCRS guidelines as found in HIV Partner Counseling and Referral Services Guidance (December 30, 1998).

(b) Provide PCRS for HIV-infected persons who have been tested anonymously or confidentially in CDC-funded sites. Ideally, PCRS should be offered to all persons with positive test results, regardless of where they were tested. Make a good faith effort to notify sexual or needle-sharing partners. PCRS efforts should be documented. Collaborate with the STD program and other health care providers to provide PCRS.

(c) Develop a plan to implement new techniques and approaches to increase PCRS, using such things as social networks and incentives.

(d) Collect and report PCRS data consistent with core data elements as will be specified in PEMS, including core program indicators.

In your application:

(a) Describe your current system for providing HIV Partner Counseling and Referral Services. Also describe your plan to provide PCRS for individuals who travel and migrate across jurisdictions within the Pacific, Hawaii, and the U.S. mainland, and how you will address the provision of PCRS for clients coming to or from non-health department/non-ministry of health settings.

(b) Specify a base-line level, one-year interim target, and five-year overall target level of performance for each of the following core program performance indicators:

• Indicator C.1: Percent of contacts with unknown or negative serostatus who receive an HIV test after PCRS notification

• Indicator C.2: Percent of contacts with a newly identified, confirmed HIV-positive test among contacts that are tested

• Indicator C.3: Percent of contacts with a known, confirmed HIV-positive test among all contacts

(3) Prevention for HIV-Infected Persons

All recipients must:

(a) Provide prevention services to persons infected with HIV/AIDS. These services could include individual or group HIV risk reduction and prevention counseling.

(b) Provide HIV risk reduction counseling to HIV-positive persons when they are given their test results, and continue to seek opportunities to provide HIV risk reduction counseling and interventions to HIV-positive individuals at intervals following the initial disclosure of test results.

Information on HIV prevention methods (or strategies) can include abstinence, monogamy, i.e., being faithful to a single sexual partner, or using condoms consistently and correctly. These approaches can avoid risk (abstinence) or effectively reduce risk for HIV (monogamy, consistent and correct condom use).

(c) Work with primary care providers in the community that serve persons with or at risk for HIV to integrate HIV prevention services into care and treatment services.

(d) Collect and report data on prevention for HIV-positives, including core indicators, as will be specified in PEMS.

In your application:

(a) Describe your plan to provide prevention services for people living with HIV/AIDS. Describe how you will provide ongoing HIV risk reduction counseling and other interventions to HIV-positive persons.

(b) Describe how you will encourage primary care providers to integrate prevention and care services.

(4) Health Education and Risk Reduction Services (HE/RR)

This includes individual, group, community, and structural level interventions as well as outreach for high-risk seronegative and seropositive individuals.

All recipients must:

(a) Provide HE/RR services or fund providers that:

• Target those most at risk for transmitting or acquiring HIV infection.

• Implement interventions that are based on logic model, scientific theory, or have evidence of demonstrated or probable outcome effectiveness (see CDC's Compendium of HIV Prevention Interventions with Evidence of Effectiveness, 1999).

• Are carried out and directed by written procedures or protocols.

• Are acceptable to and understood by the target population, i.e., they are culturally appropriate.

(b) Develop a plan for how you will work to establish or expand community capacity to provide, or assist the health department or ministry of health to implement, HIV prevention interventions and activities.

(c) Collect and report data on HE/RR activities including core indicators as will be specified in PEMS.

In your application:

(a) Identify and list priority populations and the HE/RR activities and interventions that will be funded and carried out for each prioritized population in the first year of the five-year project period. This prioritization process should consider all epidemiologic data and other evidence that is known about HIV/AIDS in the jurisdiction, and ensure that HIV positive individuals are the priority for prevention efforts.

(b) Describe your plan to establish and develop community capacity to assist with or provide HIV prevention services and interventions. Identify any existing providers, by prioritized populations and interventions that are currently funded or will be funded in this project period.

(c) Specify base line, one-year interim target, and five-year overall target levels of performance for the following core program indicator:

• Indicator H.3: the mean number of outreach contacts required to get one person to access any of the following services: counseling and testing, STD screening and testing, individual level interventions (ILI), or group level interventions (GLI)

(5) Public Information Programs

All recipients must:

(a) Develop public information programs and campaigns based on local needs with the involvement and input of the community.

(b) Collect and report data on public information activities as will be specified in PEMS.

In your application:

Describe your plan to develop and carry out HIV prevention public information programs. Describe the basic approach and messages that will be developed, including how and where the information will be disseminated. Describe how you will collect and analyze information to determine the scope and reach of public information programs, and how you intend to evaluate program components in order to guide and adjust future activities. Complete this section only if you are requesting program funds to support public information programs.

(6) Perinatal Transmission Prevention

All recipients must:

(a) Work with all health-care providers to promote routine, universal HIV screening to all of their pregnant patients. The Department of Health and Human Services recommends that all pregnant women in the United States be tested for HIV infection (see “Revised Recommendations for HIV Screening of Pregnant Women,” MMWR 2001; 50 (RR19); 59-86 and “Advancing HIV Prevention: New Strategies for a Changing Epidemic—United States,” MMWR 2003; 52 (15); 329-332).

(b) Work with organizations, institutions and health care workers that provide prenatal and postnatal care for HIV-infected women to ensure that these women are receiving the appropriate HIV prevention counseling, testing, and therapies needed to reduce the risk of perinatal transmission.

In your application:

(a) Describe the current system of perinatal care that exists within the jurisdiction, including:

• Who provides the care.

• How this care is monitored and managed.

• How you will work with health care providers to promote routine, universal HIV screening to their pregnant patients.

• How you will work with organizations and institutions that provide prenatal and postnatal care for HIV-infected women to ensure that they are receiving the appropriate HIV prevention counseling, testing, and therapies needed to reduce the risk of transmission.

(b) Specify base-line level, one-year interim target, and five-year overall target levels of performance for the following core program indicator:

• Indicator D.1: Proportion of women who receive an HIV test during pregnancy.

c. Evaluation

All recipients must:

(1) Conduct program evaluation. Follow the requirements for the new Program Evaluation and Monitoring System (PEMS) that will be specified in a forthcoming HIV program evaluation guidance. PEMS will be developed and implemented during the course of this five-year project period.

(2) Collect and report data for the core program performance indicators and for HIV prevention activities as specified in this Program Announcement and in a forthcoming HIV prevention program evaluation guidance. Respond only to the indicators that are specifically noted and required in this Program Announcement. For each core indicator, provide the information as specified on the indicator reporting form (see CDC Technical Assistance Guidelines for Health Department HIV Prevention Program Performance Indicators and as posted on a CDC Web site).

(3) Describe current HIV program evaluation activities that address the following topics:

• How your jurisdiction will meet the minimum data requirements for counseling, testing, and referral.

• Your current system of data collection and reporting of HIV prevention activities, including data system specifications and data management information systems.

• Procedures for ensuring that data quality and data security are consistent with CDC guidelines.

For 2005 and beyond, develop and implement a comprehensive evaluation plan that includes all of the above elements and addresses issues to be specified in a forthcoming HIV prevention program evaluation guidance. This future evaluation plan should include the following:

• A system for collection of process monitoring data, including client-level information.

• Data entry into CDC's browser-based system or a local system that is compatible with CDC's requirements, as outlined in the most current evaluation guidance.

• Adherence to HIV program evaluation reporting requirements for community input and involvement in the HIV prevention program planning and implementation model and process that will be developed during the first year of the five-year project period.

(4) Identify the prioritized populations and prevention activities funded under this cooperative agreement.

(5) Collect and report data consistent with the CDC requirements to ensure client confidentiality and security.

(6) Use either the CDC data system or compatible local systems to report data electronically as specified in the most recent evaluation guidance.

In your application:

(1) Describe your evaluation of HIV prevention activities for the first year of the five-year project period.

(2) Provide copies of your local data collection instruments, local program evaluation and data management system functions and specifications, and any jurisdiction-wide uniform data reporting forms, if they exist.

d. Collaboration and Coordination

All recipients must:

Coordinate and collaborate with other Pacific Islands (especially those covered under this program announcement), agencies, organizations, and providers to strengthen HIV prevention and care activities and minimize duplication of effort in the jurisdiction. Meaningful coordination and collaboration efforts are characterized by joint participatory planning to address common areas of service need; development of recommendations for program planning and implementation; development of relevant policy and/or legislative initiatives; identification of specific steps for furthering collaborative efforts within defined time-frames; and outcomes that reflect HIV prevention program goals. At a minimum, recipients are expected to coordinate and collaborate with the following:

(1) STD Prevention Programs

(a) Support efforts to identify persons with STDs that may facilitate the transmission of HIV infection.

• STD diagnosis is funded primarily through the STD prevention cooperative agreement. However, HIV prevention funds may be used to augment STD detection services if there is a documented opportunity to enhance HIV prevention efforts, e.g., encourage and offer screening for syphilis in areas experiencing syphilis outbreaks.

• Funds may be used to underwrite the cost of STD treatment, as it relates to HIV prevention, only on a case-by-case basis, and only after approval by CDC.

• When feasible, HIV counseling and testing sites, including outreach settings, should offer STD diagnostic services and referrals for STD treatment.

(b) Whenever appropriate, incorporate STD prevention messages into HIV prevention messages.

(c) Collaborate with STD programs to provide PCRS.

(2) HIV/AIDS Care Programs

To ensure early treatment and coordinate health education and risk reduction services for HIV-positive individuals, jurisdictions are encouraged to collaborate with providers and planners of care services for persons living with HIV/AIDS, particularly those funded by the Health Resources and Services Administration (HRSA) through its Ryan White CARE Act programs. These programs include Title I Planning Councils; Title II consortia, Special Projects of National Significance, HIV/AIDS CBOs, and community groups; Title III Early Intervention Services Programs; and, Title IV Programs serving children, youth, women and their families. For a list of currently funded CARE Act Programs and for more information on the Ryan White CARE Act, please go to http://hab.hrsa.gov/.

(3) Other Programs

Collaboration and coordination should also occur with the following:

• Substance abuse prevention and treatment programs and other drug treatment or detoxification programs.

• Juvenile and adult criminal justice, correctional, and parole systems and programs.

• Hepatitis prevention programs—Support local efforts to integrate viral hepatitis services into existing public health programs serving persons at risk for multiple infections (including HIV, STDs, and hepatitis A, B, and C).

—When possible, HIV prevention services should include screening for hepatitis viruses, e.g., hepatitis A and B in men who have sex with men (MSM) and hepatitis B and C in injection drug users, and provide or link those needing immunizations for hepatitis A and B to such services. HIV funds may be used for hepatitis testing, but not immunizations against hepatitis A or B.

—Collaborate with Hepatitis Coordinators in your jurisdiction to integrate services where feasible.

• TB clinics and programs.

• Public mental health departments and community mental heath centers.

• Family planning and women's health programs, including providers of services to women in high-risk situations.

• Educational agencies: Schools, boards of education, universities' schools of public health, and schools of nursing.

• Other community groups, businesses, and faith-based organizations.

In your application:

Describe your plans to collaborate and coordinate HIV prevention services and activities with the jurisdictions, programs and groups listed above. Also, describe the intended outcomes of your collaboration and coordination efforts, and your plan to strengthen these activities over the five-year project period.

e. Laboratory Support

All recipients should:

Use program funds to support the cost of HIV testing for specimens obtained via counseling and testing activities, including rapid tests and CD4 and viral load tests. Grantees must ensure that their testing laboratories provide tests of adequate quality, report findings promptly, and participate in a laboratory performance evaluation program for HIV 1 antibody testing. Grantees are encouraged to consider using a regional lab to maximize cost effectiveness and test quality. Jurisdictions should establish set protocols for the collection, maintenance, testing, tracking, and shipment of specimens that need laboratory confirmation. Grantees should develop and utilize testing methods and procedures that ensure the most effective testing outcomes. Grantees must ensure that adequate resources and supplies are available to ensure the safety of the blood supply in the jurisdiction. Jurisdictions are encouraged to consider the use of oral fluid-based and rapid HIV test kits.

In your application:

Briefly describe all laboratory support activities funded under this announcement. Describe your current or proposed methods for testing and confirmation of HIV and tell us also how you would expand testing options if laboratory capacity were enhanced and stabilized in the Region. Include in this description a detailed algorithm of how HIV tests are collected and processed, and how decisions are made to determine needs for confirmation.

f. HIV/AIDS Epidemiologic and Behavioral Surveillance

All recipients must:

(1) Respond to the surveillance data needs of HIV prevention program managers and planning bodies, including analysis, interpretation, and presentation of surveillance data; preparation of the epidemiologic profiles; and other reports for use in the support of the implementation and evaluation of HIV prevention activities. Although the Surveillance Cooperative Agreement can provide support to jurisdictions to meet surveillance needs, funds under this announcement may be used to help support unmet HIV/AIDS surveillance activities as described above. Funds may also be used to address data gaps or unmet state or local needs for supplemental surveillance, HIV incidence surveillance, or behavioral surveillance.

(2) Collaborate with surveillance programs to collect data needed for HIV incidence surveillance efforts.

(3) Collaborate with CDC for surveillance activities.

(4) For jurisdictions not yet reporting HIV or AIDS to CDC, determine the steps that are necessary to ensure that accurate, confidential and timely reporting of HIV and AIDS cases can be made to CDC.

In your application:

Describe any surveillance activities you expect to conduct with support provided through this program announcement. Complete this section only if you are requesting program funds to support this activity.

g. Quality Assurance

Recipients should develop, implement, and maintain quality assurance plans in the following program areas:

(1) CTR and PCRS:

(a) Counseling—Conduct routine, periodic assessments to ensure that the counseling being provided includes the recommended, essential counseling elements. Quality assurance elements may include (but are not limited to) the following components: training and continuing education; supervisor observation with feedback to counselors; case conferences; counselor or client satisfaction evaluations; and periodic evaluation of space, flow, and time concerns.

(b) HIV Testing—Develop and implement a quality assurance system for all CTR and PCRS activities and providers, with special attention to ensuring that HIV-positive clients learn their test results. Develop and implement a quality assurance system for implementing HIV rapid testing.

(c) Referral—Develop and implement a mechanism for assessing the proportion of HIV-positive persons referred for additional services who complete their referrals. Review data and improve process as necessary.

(d) PCRS—Develop, implement, and maintain a system to assess the PCRS program and improve its function, e.g., improving the percentage of persons who receive PCRS, the quality of PCRS interview sessions, and the successful notification of partners.

(2) Health Education and Risk Reduction (HE/RR) Activities:

(a) Develop and implement a mechanism to ensure HE/RR activities are appropriate, understandable and acceptable for the specific populations served.

(b) Develop and maintain a mechanism to ensure the consistency, accuracy, and relevance of information provided to the public through various information dissemination channels, including information about referral services.

(c) Develop or use standard procedures or protocols for interventions implemented by the health department/health ministry or by any subcontracted providers.

(d) Actively monitor services and programs provided by individuals or entities outside of the health department or health ministry. This activity will help to identify training and technical assistance needs and to ensure that interventions are implemented as planned and that program objectives are met.

(e) Use feedback from client satisfaction surveys or other evaluation tools to assess the services provided, including prevention services for people living with HIV/AIDS.

(3) Policies, Procedures, and Training

(a) Develop comprehensive written quality assurance policies and procedures to ensure that all HIV prevention activities are delivered in an appropriate, competent, consistent, and sensitive manner.

(b) Make quality assurance policies and procedures available to all program staff (health department/health ministry and any subcontracted providers).

(c) Deliver training to all staff providing HIV prevention activities, especially those staff providing CTR, PCRS, and HE/RR (health department/health ministry and subcontracted providers).

(d) Train all managers to ensure that quality assurance policies and procedures are followed (health department/health ministry and subcontracted providers).

(4) Data Collection—Develop, implement, and maintain a system to assess the quality of data collection:

In your application:

Describe your quality assurance efforts regarding HIV CTR, PCRS, HE/RR, public information campaigns, data collection, training, program procedures, and any other relevant programmatic areas for which you have quality assurance plans.

h. Recommended Program Activities

This section describes capacity building, a program component that is not required through this program announcement. However, capacity building is recommended to improve the overall quality of your HIV prevention program and should be implemented depending upon program needs and availability of resources. Capacity building activities are as follows:

(1) Conduct a capacity building needs assessment for the jurisdiction's health department/health ministry HIV prevention service providers and other prevention agencies/partners including community-based organizations. This assessment should look at the capacity to provide outreach testing, PCRS, and prevention for people living with HIV.

(2) Develop a comprehensive capacity-building plan based on the assessment.

(3) Provide capacity-building assistance, based on the needs assessment, to HIV prevention service providers, and other prevention agencies/partners. Create linkages with national and international capacity-building assistance providers (CBAs), where necessary and appropriate. Capacity-building assistance may include, but should not be limited to:

(a) Strengthening organizational infrastructure, including financial management and compliance with grant regulations.

(b) Enhancing the design, implementation, and evaluation of HIV prevention interventions.

(c) Developing community infrastructure.

(d) Developing and implementing a new model for HIV prevention program planning that utilizes community involvement and input.

(4) Provide capacity-building assistance to staff of health department/health ministry HIV prevention programs and other staff.

(5) Provide capacity-building assistance to establish or develop community-based agencies or organizations to provide outreach testing and PCRS, including the use of rapid tests.

(6) Increase the capacity of medical providers to provide routine HIV testing, including the use of rapid HIV tests.

(7) Provide capacity-building assistance to develop, pilot, and sustain prevention interventions for persons living with HIV/AIDS and other prioritized target populations.

In your application:

(1) Describe your capacity-building activities in the areas listed above.

(2) Discuss your plans to strengthen your capacity-building activities over the five-year project period of this program announcement.

(3) Discuss how you will assess (initially, as well as ongoing) capacity-building needs throughout the project period.

i. Additional Information To Be Addressed in the Application Content

(1) Other Activities

All recipients must ensure that appropriate health department/ministry of health staff attends CDC-sponsored meetings, i.e., the National HIV Prevention Conference, the United States Conference on AIDS, and any mandatory training sessions addressing specific HIV prevention program requirements under this cooperative agreement.

In your application:

(a) Budget funds provided through this cooperative agreement for three persons to attend at least three CDC-sponsored conferences or meetings each year. Also, for the first year of this project period, budget funds for meetings/activities related to the development of a new model for HIV prevention program planning and implementation.

(b) Describe any other planned travel or attendance at conferences or meetings not previously addressed.

(2) Summarize Unmet Needs

In your application:

Summarize any HIV prevention needs that will remain unmet even if the total application is funded. Provide an estimate of funds required to meet these needs.

(3) Management and Staffing Plan

All recipients must have the staff and infrastructure to implement the components of a comprehensive HIV prevention program for their jurisdiction. Recipients must maintain appropriate staffing to fulfill their responsibility to support programs and services provided directly by the health department/ministry of health or through community-based organizations or efforts; provide evaluation, and quality assurance; and support a community-driven process for HIV prevention program planning and implementation that will guide the disbursement and monitoring of funds.

In your application:

Describe your management and staffing plans to conduct or support the essential components of your comprehensive HIV prevention program. Please include an organizational chart that reflects the current management structure and a description of the roles, responsibilities, and relationships of all staff in the program, regardless of funding source. Identify the positions supported through this cooperative agreement and those funded through other sources, as well as any unfunded staffing needs.

j. Budget Information

In accordance with Form CDC 0.1246, http://www.cdc.gov/od/pgo/forminfo.htm (http://www.cdc.gov/od/pgo/forms/01246.pdf), provide a line item budget and narrative justification for all requested costs that are consistent with the purpose, objectives, and proposed program activities. Within this budget, please provide documentation for each cost category.

(1) Line item breakdown and justification for all personnel, i.e., name, position title, annual salary, percentage of time and effort, and amount requested.

(2) Line item breakdown and justification for all contracts, including: (a) Name of contractor, (b) period of performance, (c) method of selection (i.e., competitive or sole source), (d) description of activities, (e) target population and (f) itemized budget.

(3) Requests for any new Direct Assistance Federal assignees include:

• Justification for request.

• The number of assignees requested.

• A description of the position and proposed duties.

• The ability or inability to hire locally with financial assistance.

• An organizational chart and the name of the intended supervisor.

• The availability of career-enhancing training, education, and work experience opportunities for the assignee(s).

• Assignee access to computer equipment for electronic communication with CDC.

(4) Use of Funds/Funding Priorities: Funds may not be used to supplant other funds available for HIV prevention. Funds may not be used to provide direct patient medical care, e.g., ongoing medical management and provision of medications.

(5) Carryover Funds: Carryover funds are available only from the previous 12-month budget period. Carryover funds are not available after the end of the five-year project period.

IV.3. Submission Dates and Times

Application Deadline Date: February 2, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This program announcement is the definitive guide on application format, content, and deadlines. It supersedes information provided in the application instructions. If your application does not meet the deadline above, it will not be eligible for review, and will be discarded. You will be notified that you did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Your application is subject to Intergovernmental Review of Federal Programs, as governed by Executive Order (EO) 12372. This order sets up a system for state and local governmental review of proposed federal assistance applications. You should contact your state single point of contact (SPOC) as early as possible to alert the SPOC to prospect applications, and to receive instructions on your state's process. Click on the following link to get the current SPOC list: http://www.whitehouse.gov/omb/grants/spoc.html

IV.5. Funding Restrictions

Funds may not be used to supplant other funds available for HIV prevention. Funds may not be used to provide direct patient medical care, e.g., ongoing medical management and provision of medications.

Funds may be used to underwrite the cost of STD treatment, as it relates to HIV prevention, only on a case-by-case basis, and only after approval by CDC.

HIV funds may be used for hepatitis testing, but not immunizations against hepatitis A or B.

Awards will not allow reimbursement of pre-award costs.

IV.6. Other Submission Requirements

Application Submission Address: Submit the original and two copies of your application by mail or express delivery service to: Technical Information management—PA# 04069, CDC Procurement and Grants Office, 2920 Brandywine Road, Atlanta, GA 30341.

Applications may not be submitted electronically at this time.

V. Application Review Information

V.1. Criteria: You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation. Compliance with core program performance indicators will fulfill the above requirement.

Your application will be evaluated against the criteria listed below. All criteria are weighted equally.

1. HIV Prevention Program Planning and Implementation Using Community Input and Involvement

Does the applicant describe their jurisdiction's current process for ensuring that community involvement and input is part of HIV prevention program planning and implementation. Describe barriers, challenges and limitations in the current process or model. Describe ideas or suggestions for a new model that might achieve or increase community involvement in HIV prevention program planning and implementation.

2. HIV Prevention Activities

(a) Does the applicant describe their plan to provide HIV CTR, including:

• How the applicant will establish or improve efforts to identify newly infected persons and to test persons most at risk for HIV.

• How the applicant will improve the provisions of test results (especially positive results).

• How the applicant will expand the availability of HIV CTR services, especially in areas where testing is not currently available and where high risk populations would seek testing.

• Does the applicant have a plan for providing referrals and tracking the completion of referrals for persons with positive test results?

• How the applicant will work with medical care entities to encourage and support routine HIV screening in high prevalence settings.

(b) Does the applicant specify a base-line level, one-year interim target, and five-year overall target level of performance for each of the following core program indicators?

• Indicator B.1: Percent of newly identified, confirmed HIV-positive test results among all tests reported by CDC-funded HIV Counseling, testing, and referral sites.

• Indicator B.2: percent of newly identified, confirmed HIV positive test results returned to clients.

3. Partner Counseling and Referral Services (PCRS)

(a) Does the applicant describe their current system for providing HIV Partner Counseling and Referral Services? Also, do they describe their plan to provide PCRS for individuals who travel and migrate across jurisdictions within the Pacific, Hawaii, and the U.S. mainland, and how will they address the provision of PCRS for clients coming to or from non-health department/non-ministry of health settings.

(b) Does the applicant specify a base-line level, one-year interim target, and five-year overall target level of performance for each of the following core program indicators?

• Indicator C.1: Percent of contacts with unknown or negative serostatus who receives an HIV test after PCRS notification.

• Indicator C.2: Percent of contacts with a newly identified, confirmed HIV-positive test among contacts who are tested.

• Indicator C.3: Percent of contacts with a known, confirmed HIV-positive test among all contacts.

4. Prevention for HIV-Infected Persons

(a) Does the applicant describe their plan to provide prevention services for people living with HIV/AIDS? Does the applicant describe how they will provide ongoing HIV risk reduction counseling and other interventions to HIV positive persons?

(b) Does the applicant describe how they will encourage primary care providers to integrate prevention and cares services?

5. Health Education and Risk Reduction Services (HE/RR)

(a) Does the applicant Identify and list priority populations and the health education/risk reduction activities and interventions that will be funded and carried out for each prioritized populations in the first year of the five-year project period? (Use Draft Priority Population Summary Worksheet.) This priorization process should consider all epidemiologic data and other evidence that is known about HIV/AIDS in the jurisdiction, and ensure that HIV positive individuals are the priority for prevention efforts.

(b) Does the applicant describe their plan to establish and develop community capacity to assist with or provide HIV prevention services and interventions? Identify any existing providers, by prioritized populations and interventions that are currently funded or will be funded in this project period.

(c) Specify base-line, one year-year interim target, and five-year overall target levels of performance for the following core program indicator:

• Indicator H.3: The mean number of outreach contacts required to get one person to access any of the following services: counseling and testing, STD screening and testing, individual level interventions (ILI), or group level interventions (GLI).

6. Public Information Programs

(a) Does the applicant describe their plan to develop and carry out HIV prevention public information programs? Do they describe the basic approach and messages that will be developed, including how and where the information will be disseminated? Does the applicant describe how they will collect and analyze information to determine the scope and reach of public information programs, and how they intend to evaluate program components in order to guide and adjust future activities?

7. Perinatal Transmission Prevention

(a) Does the applicant describe the current system of perinatal care that exists within the jurisdiction, including:

• Who provides the care.

• How this care is monitored and managed.

• How they will work with health care providers to promote routine, universal HIV screening to their pregnant patients.

• How they will work with organizations and institutions that provide prenatal and postnatal care for HIV-infected women to ensure that they are receiving the appropriate HIV prevention counseling, testing, and therapies needed to reduce the risk of transmission.

(b) Does the applicant specify base-line level, one-year interim target, and five-year overall target levels of performance for the following core program indicator:

• Indicator D.1: Proportion of women who receive an HIV test during pregnancy.

8. Evaluation

(a) Does the applicant describe their plan for evaluation of HIV prevention activities for the first year of the five-year project period?

(b) Does the applicant provide copies of their local data collection instruments, local program evaluation and data management system functions and specifications, and any jurisdiction-wide uniform data reporting forms, if they exist.

9. Collaboration and Coordination

Does the applicant describe their plans to collaborate and coordinate HIV prevention services and activities with the jurisdictions, programs and groups listed in this announcement? Also, how do they describe the intended outcomes of their collaboration and coordination efforts, and their plan to strengthen these activities over the five-year project period?

10. Laboratory Support

Does the applicant briefly describe all laboratory support activities funded under this announcement? Does the applicant describe their current or proposed methods for testing and confirmation of HIV, and describe also how they would expand testing options if laboratory capacity were enhanced and stabilized in the region? Did they include in this description a detailed algorithm of how HIV tests are collected and processed, and how decisions are made to determine needs for confirmation?

11. HIV/AIDS Epidemiologic and Behavioral Surveillance

Does the applicant describe any surveillance activities they expect to conduct with support provided through this program announcement? [Note to applicant: Complete this only if you are requesting program funds to support this activity.]

12. Quality Assurance

Does the applicant describe their quality assurance efforts regarding HIV CTR, PCRS, HE/RR, public information campaigns, data collection, training, program procedures, and any other relevant programmatic areas for which they have quality assurance plans?

13. Capacity-Building Activities (Recommended Activity Based on Availability of Resources)

(a) Does the applicant describe their capacity-building activities in the areas listed?

(b) Does the applicant discuss their plans to strengthen their capacity-building activities over the five-year project period of this program announcement?

(c) Does the applicant discuss how they would assess (initially, as well as ongoing) capacity-building needs throughout the project period?

14. Other Activities

(a) Does the applicant budget funds through this cooperative agreement for three persons to attend at least three CDC-sponsored conferences or meetings each year? Also, for the first year of this project period, does the applicant budget funds for meetings/activities related to the development of a new model for HIV prevention program planning and implementation?

(b) Does the applicant describe any other planned travel or attendance at conferences or meetings not previously addressed?

15. Unmet Needs

Does the applicant summarize any HIV prevention needs that will remain unmet even if the total application is funded? Do they provide an estimate of funds required to meet these needs?

16. Management and Staffing Plan

Does the applicant describe their management and staffing plan to conduct or support the essential components of their comprehensive HIV prevention program? Does the applicant include an organizational chart that reflects the current management structure and a description of the roles, responsibilities, and relationships of all staff in the program, regardless of funding source? Does the applicant identify the positions supported through this cooperative agreement and those funded through other sources, as well as any unfounded staffing needs?

V.2. Review and Selection Process

As all eligible applicants will be funded, applications will undergo a Technical Acceptability Review.

V.3. Anticipated Announcement and Award Date

Award Date: April 1, 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements:

45 CFR Part 74 and Part 92

For more information on the Code of Federal Regulations, see the National Archives and Records Administration at the following Internet address: http://www.access.gpo.gov/nara/cfr/cfr-table-search.html

The following additional requirements apply to this project:

AR-4 HIV/AIDS Confidentiality Provisions

AR-5 HIV Program Review Panel Requirements

AR-7 Executive Order 12372 Review

AR-8 Public Health System Reporting Requirements

AR-9 Paperwork Reduction Act Requirements

AR-10 Smoke-Free Workplace Requirements

AR-11 Healthy People 2010

AR-12 Lobbying Restrictions

AR-14¢Accounting System Requirements

AR-16 Security Clearance Requirement

AR-20 Conference Support

Additional information on these requirements can be found on the CDC Web site at the following Internet address: http://www.cdc.gov/od/pgo/funding/ARs.htm.

VI.3. Reporting Requirements

You must provide CDC with a hard copy original, plus two copies of the following reports:

1. Data reports of HIV interventions (including individual and group level); outreach; health communication/public information; HIV counseling, testing, and referral; partner counseling and referral service; are required 45 days after the end of each quarter or as specified in the most recent evaluation guidance. Project areas may request technical assistance to achieve this. Data should be submitted directly to the Program Evaluation Research Branch.

2. This program requires progress reports on a semi-annual basis. The first progress report (an original plus two copies) for each calendar year is due by April 1 of the following year. You will receive specific guidance on what to include at least three months before the due date. Generally, your report should include the following:

a. Base-line and actual level of performance on core and optional indicators

b. Current Budget Period Financial Progress

c. Additional Requested Information

3. The second report (an original and two copies), which is the interim progress report, is due by September 30 of each year. It should include:

a. Current Budget Period Financial Progress

b. Base-line and target level for core and optional indicators

c. Detailed Line-Item Budget and Justification

d. Additional Requested Information

4. Provide CDC with a Financial Status Report (original and two copies), no more than 90 days after the end of each budget period.

5. Provide CDC with your final financial and performance reports (original and two copies), no more than 90 days after the end of the five-year project period.

6. Submit any newly developed public information resources and materials to the CDC National Prevention Information Network (formerly the AIDS Information Clearinghouse) so that they can be incorporated into the current database for access by other organizations and agencies.

Submit hard copies of materials to: CDC National Prevention Information Network, Attention Database Services, PO Box 6003, Rockville, MD 20849-6003; or submit electronic copies of materials by email to: info@cdcnpin.org; Subject: Database Services, For more information call: 1-800-458-5231.

7. HIV Content Review Guidelines

a. Submit completed Assurance of Compliance with the Requirements for Contents of AIDS-Related Written Materials Form (CDC form-0.1113) with your application. This form, which lists the members of your program review panel, can be downloaded from the CDC Web site: http://www.cdc.gov/od/pgo/forminfo.htm. The Program Director and authorized business/fiscal official must sign this form. In addition, you must certify that your program review panel represents a reasonable cross-section of the community in which the program is based.

b. You must also include with your application documentation of approval/disapproval by your program review panel of any HIV educational materials that you are currently using. Use the form, Report of Approval/Disapproval for this purpose. This form is attached to this announcement as posted on the CDC Web site. If you have previously sent this information to CDC, it is not necessary to send it again. If you have nothing to submit, you must complete the enclosed form, No Report Necessary. Either the Report of Approval/Disapproval or No Report Necessary must be included with your application, all progress reports, and all continuation requests. In addition to using the Report of Approval/Disapproval, you must certify that accountable jurisdictional health officials independently review the federally-funded HIV prevention materials for compliance with Section 2500 of the Public Health Service Act, and approve the use of such materials in their jurisdiction for directly and indirectly funded organizations.

c. Ensure that a Web page notice be used for those grantees whose Web sites contain HIV/AIDS educational information subject to the CDC content review guidelines. Contact your project officer for a copy of this guidance.

8. Address your organization's compliance with CDC policies for securing approval for CDC sponsorship of conferences. If you plan to hold a conference, you must send a copy of the agenda to CDC's Procurement and Grants Office.

9. If you plan to use materials using CDC's name, send a copy of the proposed material to CDC's Procurement and Grants Office for approval.

Note: Send all reports (except for items 1 and 6) to the Grants Management Specialist identified in the “Agency Contacts” section of this announcement.

VII. Agency Contacts

For general questions about this announcement, contact: Technical Information Management Section, CDC Procurement and Grants Office, 2920 Brandywine Road, Atlanta, GA 30341, Telephone: 770-488-2700.

For program technical assistance, contact: Victoria Rayle, Project Officer, Prevention Program Branch, Division of HIV/AIDS Prevention, Centers for Disease Control and Prevention, 1600 Clifton Road, MS-E58, Telephone: 404-639-4274, E-mail: vdrl@cdc.gov.

For budget assistance, contact: Jamie Legier, Grants Management Specialist, CDC Procurement and Grants Office, 2920 Brandywine Road, Atlanta, GA 30341, Telephone: 770-488-2635, E-mail: bzl3@cdc.gov.

Dated: December 22, 2003.
Sandra R. Manning,
Director, Procurement and Grants Office, Centers for Disease Control and Prevention.

[FR Doc. 03-31972 Filed 12-29-03; 8:45 am]

BILLING CODE 4163-18-P